ELECTION ASSISTANCE COMMISSION

Request for Proposals for the Help America Vote College Poll Worker Recruitment Program

AGENCY: Election Assistance Commission (EAC).

ACTION: Notice of Request for Applications—Federal Grant Opportunity.

SUMMARY: Pursuant to Sections 501-503 of the Help America Vote Act (HAVA), Public Law 107-252, the U.S. Election Assistance Commission (EAC or Commission) is hereby publishing in the Federal Register a Request for Proposals for the Help America Vote College Poll Worker Recruitment Program.

DATES: This notice is effective upon publication in the Federal Register.

FOR FURTHER INFORMATION CONTACT: Phone: Karen Lynn-Dyson at (202) 566-3100 or 1-866-747-1471 (toll-free).

Federal Agency Name: United States Election Assistance Commission.

Funding Opportunity Title: Help America Vote College Program.

Announcement Type: Competitive Grant—Initial.

Funding Opportunity Number: EAC—04—001.

CFDA Number: 90.400.

Due Date: Applications are due by Thursday, September 9, 2004.

I. Funding Opportunity Description

This announcement is covered under the Help America Vote Act of 2002, Public Law (Pub. L.) 107-252, Title V. Provisions under this title allow the U.S. Election Assistance Commission to award grants for the development of a program to encourage students enrolled at institutions of higher education (including community colleges) to assist State and local governments in the administration of elections by serving as nonpartisan poll workers or assistants.

Project funds must be used for projects and activities which are carried out without partisan bias or without promoting any particular point of view regarding any issue.

Purpose of the U.S. Election Assistance Commission

The U.S. Election Assistance Commission (“EAC” or “Commission”) was established by the Help America Vote Act of 2002 (“HAVA”). Central to its role, the Commission serves as a national clearinghouse and resource for information and review of procedures with respect to the administration of federal elections.

HAVA requires the EAC to, among other things:

• Generate technical guidance on the administration of federal elections.

• Produce voluntary voting systems guidelines.

• Research and report on matters that affect the administration of federal elections.

• Otherwise provide information and guidance with respect to laws, procedures, and technologies affecting the administration of federal elections.

• Administer payments to States to meet HAVA requirements.

• Provide grants for election technology development and for pilot programs to test election technology.

• Develop a national program for the testing, certification, and decertification of voting systems.

• Maintain the national mail voter registration form that was developed in accordance with the National Voter Registration Act of 1993 (“NVRA”), report to Congress every two years on the impact of the NVRA on the administration of federal elections, and provide information to States on their responsibilities under that law.

• Audit entities who receive federal funds authorized by HAVA from the General Services Administration or the EAC.

• Submit an annual report to Congress describing EAC activities for the previous fiscal year.

Additionally, the EAC is required, not later than one year after the appointment of its members, to develop a program to be known as the “Help America Vote College Program.”

Help America Vote College Program

The EAC is seeking proposals which will assist the Commission in developing and implementing the Help America Vote College Program (“College Program”).

The purpose of the College Program is to encourage students enrolled at institutions of higher education (including community colleges) to assist state and local governments in the administration of elections by serving as nonpartisan poll workers or assistants, and to encourage state and local governments to use the services of the students participating in the College Program.

While laws regarding eligibility for poll worker service vary somewhat from state to state, in all states, poll worker service requires dedication. Poll workers are required to attend a training session conducted by the local election jurisdiction prior to Election Day. Most training sessions occur in the month prior to Election Day (i.e., October for this project period), and generally last, on average, 2 to 3 hours. Through coordination between the local election jurisdiction and the prospective grantee, on-site poll worker training may be arranged.

Applicants also should be aware that poll workers generally are required to be at polling locations to help set up prior to the opening of polls, and should plan to stay at least 45 minutes after the close of polls on Election Day. In some jurisdictions options to split a shift are available. Applicants should understand that college poll workers may be required to remain at the polling location the entire day on Election Day. It should be noted that poll workers are paid a stipend both for attending training and for their service on Election Day. The stipend amounts, paid by the election jurisdiction, vary widely.

Applicants should be aware that most states require that poll workers be registered voters in the state in which they serve. Other states require that poll workers be registered voters in the county in which they serve. In some cases, however, students are exempt from these requirements and may serve under various titles such as assistants or interpreters.

In making grants under the College Program, the EAC requires that the funds provided are spent for projects and activities which are carried out without partisan bias or without promoting any particular point of view regarding any issue, and that each grant recipient is governed in a balanced manner which does not reflect any partisan bias.

Applicants should be informed that the EAC will require all grant recipients to submit a final written report discussing outcomes and/or related qualitative data, which the EAC will use to develop recommendations to the U.S. Congress, States and local governments about future involvement of college students as poll workers and/or “best practices” information.

General Guidelines for Application

• Outline a plan of action which describes the scope and detail of how the proposed work will be accomplished, given the description and purpose detailed above regarding the College Program;

• Describe any unusual features of the project such as design or technological innovations, reductions in cost or time, or extraordinary social and community involvement;

• Provide quantitative projections of the accomplishments to be achieved for each function or activity in such terms as the number of college students expected to participate and the number of activities accomplished. When accomplishments cannot be quantified by activity or function, list them in chronological order to show the schedule of accomplishments and their target dates.

• Identify the results and benefits to be derived. For example, describe how the activities that your organization undertakes will promote the participation of college students to work as poll workers or assistants during the upcoming November 2nd general election.

• To the extent possible, include information on meeting the poll worker eligibility requirements for the jurisdiction(s) covered by the student population described in the application;

• To the extent possible, include information showing current involvement and/or support from the local election administrator(s) of the jurisdiction(s) covered by the student population described in the application or ways in which such involvement and/or support will be developed during the project period;

• Describe for all functions or activities identified in the application and, if applicable, cite factors which might accelerate or decelerate the work and state your reason for taking the proposed approach rather than others;

• Present a budget with reasonable project costs, appropriately allocated across component areas, and sufficient to accomplish the objectives, such as documentation of the dollar amount requested, as well as a description of the fiscal controls and accounting procedures that will be used to ensure prudent use, proper disbursement, and accurate accounting of funds received under this program announcement.

II. Award Information

Funding Instrument Type: Grant.

Anticipated Total Priority Area Funding: $200,000-$645,750.

Anticipated Number of Awards: 1-50.

Ceiling on Amount of Individual Awards: $150,000 per project and budget period.

Floor on Individual Award Amounts: $10,000 per project and budget period.

Average Projected Award Amount: Unknown.

Project Periods for Awards: 3-4 month project and budget periods.

III. Eligibility Information

1. Eligible Applicants

State controlled institutions of higher education; private institutions of higher education; community colleges; non-profit organizations, other than institutions of higher education; and faith-based organizations.

All applications that are developed jointly by more than one agency or organization must identify only one organization as the lead organization and the official applicant. The other participating organizations can be included as co-participants, sub-grantees, or subcontractors.

Any non-profit organization submitting an application must include proof of its non-profit status in its application at the time of submission. The non-profit organization can accomplish this by providing any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Applicants are cautioned that the ceiling for individual awards is $150,000. Requests that exceed the $150,000 threshold will be considered non-responsive and will not be eligible for funding under this announcement.

Applications that are developed jointly by more than one agency or organization that fail to identify only one organization as the lead organization and the official applicant will be considered non-responsive and returned without review.

Pre-award costs are not allowable charges to this program. Applications that include pre-award costs with their submission will be considered non-responsive and will not be eligible for funding under this announcement.

Construction is not an allowable activity or expenditure under this program. Applications that propose construction projects or expenditures will be considered non-responsive and will not be eligible for funding under this announcement.

2. Cost Sharing or Matching

None.

3. Other (If Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Applicants are cautioned that the ceiling for individual awards is $150,000. Requests that exceed the $150,000 threshold will be considered non-responsive and will not be eligible for funding under this announcement.

Applications that are developed jointly by more than one agency or organization that fail to identify only one organization as the lead organization and the official applicant will be considered non-responsive and returned without review.

Pre-award costs are not allowable charges to this program. Applications that include pre-award costs with their submission will be considered non-responsive and will not be eligible for funding under this announcement.

Construction is not an allowable activity or expenditure under this program. Applications that propose construction projects or expenditures will be considered non-responsive and will not be eligible for funding under this announcement.

IV. Application and Submission Information

1. Address To Request Application Package

U.S. Election Assistance Commission, 1225 New York Avenue, NW., Suite 1100, Washington, DC 20005, Attention: Karen Lynn-Dyson, Phone: (202) 566-3100; Fax: (202) 566-1389.

Application forms and certifications may also be downloaded from the “Help America Vote College Program” link at the following Internet address: http://www.eac.gov.

2. Content and Form of Application Submission

The Application

Each application package must include an original and two copies of the complete application. Each copy should be stapled securely (front and back if necessary) in the upper left-hand corner. All pages of the project description/narrative must be sequentially numbered, beginning with page one. In order to facilitate handling, please do not use covers, binders or tabs. Do not include extraneous materials as attachments, such as agency promotion brochures, slides, tapes, film clips, minutes of meetings, survey instruments or entire articles of incorporation.

You may view this grant announcement via http://www.grants.gov. However, you may not submit an electronic application for this grant announcement. Rather, the EAC requires that applications for this grant announcement be submitted—not later than September 9, 2004—in paper format only by mailing or hand delivering a hard copy of the application to the following address:

U.S. Election Assistance Commission, 1225 New York Avenue, NW., Suite 1100, Washington, DC 20005, Attention: Karen Lynn-Dyson, Program Director. Any questions regarding this announcement can be directed to Karen Lynn-Dyson at (202) 566-3100 or by e-mail at klynndyson@eac.gov.

Please note that to use grants.gov, you, as the applicant, must have a DUNS Number. You may acquire a DUNS number at no cost by calling the dedicated toll-free DUNS number request line on 1-866-705-5711 or you may request a number on-line at http://www.dnb.com.

Application Requirements

A complete application consists of the following items:

—Application for Federal Assistance (SF 424, REV 4-92);

—Budget Information—Non-Construction Programs (SF 424A, REV 4-92);

—Budget justification for Section B—Budget Categories;

—Assurances—Non-Construction Programs (Standard Form 424B, REV 4-92);

—Proof of non-profit status;

—Project description/narrative;

—Any appendices/attachments;

—Certification regarding lobbying.

The above forms and certifications may be found at the “Help America Vote College Program” link located at http://www.eac.gov.

Private, non-profit organizations are encouraged to submit with their applications the survey located under “Grant Related Documents and Forms” titled “Survey for Private, Non-Profit Grant Applicants.” The forms are located on the Web at http://www.acf.hhs.gov/programs/ofs/forms.htm.

Application Format

Length: Applications must not exceed 25 pages.

3. Submission Dates and Times

The EAC requires that applications for this grant announcement be submitted—not later than September 9, 2004—in paper format only by mailing or hand delivering a hard copy of the application, as instructed below. All applications will be evaluated upon receipt and initial screening.

Deadline: Mailed applications shall be considered as meeting the announced deadline if they are received on or before the deadline time and date at the following address: U.S. Election Assistance Commission, 1225 New York Avenue, NW., Suite 1100, Washington, DC 20005, Attention: Karen Lynn-Dyson, Program Director, Help America Vote College Program. Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 5 p.m., e.s.t., at the following address: U.S. Election Assistance Commission, 1225 New York Avenue, NW., Suite 1100, Washington, DC 20005, Attention: Karen Lynn-Dyson, Program Director, Help America Vote College Program.

The closing time and date for receipt of applications is 5 p.m. (Eastern Standard Time) on Thursday, September 9, 2004. Mailed or hand carried applications received after 5 p.m. e.s.t. on the closing date will be classified as late.

Late applications: Applications which do not meet the criteria above are considered late applications. EAC shall notify each late applicant that its application will not be considered in the current competition.

Extension of deadlines: EAC may extend application deadlines when circumstances such as Acts of God (floods, hurricanes, etc.) occur, or when there are widespread disruptions of mail service. Determinations to extend or waive deadline requirements rest with the U.S. Election Assistance Commission.

4. Intergovernmental Review

State Single Point of Contact (SPOC):

This program is covered under Executive Order 12372, “Intergovernmental Review of Federal Programs.” Under the Order, States may design their own processes for reviewing and commenting on proposed Federal assistance under covered programs. As of October 1, 2003, the following jurisdictions have elected to participate in the Executive Order process:

Arkansas, California, Delaware, Florida, Georgia, Illinois, Iowa, Kentucky, Maine, Maryland, Michigan, Mississippi, Missouri, Nevada, New Hampshire, New Mexico, New York, North Dakota, Rhode Island, South Carolina, Texas, Utah, West Virginia, Wisconsin, District of Columbia, Puerto Rico, American Somoa, Guam, North Mariana Islands, and the Virgin Islands.

Applicants from these jurisdictions should determine the SPOC for that jurisdiction, and contact their SPOC as soon as possible to alert them of the prospective application and receive instructions. Applicants must submit any required material to the SPOC as soon as possible so that the program office can obtain and review SPOC comments as part of the award process. The applicant must submit all required materials, if any, to the SPOC and indicate the date of this submittal (or the date of contact if no submittal is required) on the Standard Form 424, item 16a. Under 45 CFR 100.8(a)(2), a SPOC has up to 60 days from the application deadline to comment on proposed new or competing continuation awards.

Applicants from a jurisdiction that does not participate in the Executive Order process, and which have met the eligibility requirements of this program, are still eligible to apply for a grant even if a State, Territory, Commonwealth, etc., does not have a SPOC.

A list of the Single Points of Contact for each State and Territory can be obtained from the following Web site: http://www.whitehouse.gov/omb/grants/spoc.html.

5. Funding Restrictions

Applicants are cautioned that the ceiling for individual awards is $150,000.

Applications exceeding the $150,000 threshold will be considered non-responsive and will not be eligible for funding under this announcement.

Pre-award costs are not allowable charges to this program. Applications that include pre-award costs with their submission will be considered non-responsive and will not be eligible for funding under this announcement.

Construction is not an allowable activity or expenditure under this program. Applications that propose construction projects or expenditures will be considered non-responsive and will not be eligible for funding under this announcement.

6. Other Submission Requirements

Submission by Mail: An applicant must provide an original application with all attachments, signed by an authorized representative and two copies. The Application must be received at the address below by 5 p.m. Eastern Standard Time on or before the closing date, which is Thursday, September 9, 2004. Applications should be mailed to: U.S. Election Assistance Commission, 1225 New York Avenue, NW., Suite 1100, Washington, DC 20005, Attention: Karen Lynn-Dyson, Program Director, Help America Vote College Program.

Hand Delivery: An applicant must provide an original application with all attachments signed by an authorized representative and two copies. The application must be received at the address below by 5 p.m. Eastern Standard Time on or before the closing date, which is Thursday, September 8, 2004. Applications that are hand delivered will be accepted between the hours of 8 a.m. to 5 p.m., Monday through Friday. Applications may be delivered to: U.S. Election Assistance Commission, 1225 New York Avenue, NW., Suite 1100, Washington, DC 20005, Attention: Karen Lynn-Dyson, Program Director, Help America Vote College Program.

V. Application Instructions

Instructions for Preparing the Application and Completing Application Forms

The SF 424, SF 424A, SF 424A—Page 2 and Certifications/Assurances are contained in the application package that can be accessed as mentioned earlier in this announcement. Please prepare your application in accordance with the following instructions:

SF 424, Page 1, Application Cover Sheet

Please read the following instructions before completing the application cover sheet. An explanation of each item is included. Complete only the items specified.

Top of Page. Please indicate that you are applying for new or implementation funds.

Item 1. “Type of Submission”—Preprinted on the form.

Item 2. “Date Submitted” and “Applicant Identifier”—Date application is submitted to EAC and applicant's own internal control number, if applicable.

Item 3. “Date Received By State”—State use only (if applicable).

Item 4. “Date Received by Federal Agency”—Leave blank.

Item 5. “Applicant Information.”

“Legal Name”—Enter the legal name of applicant organization. For applications developed jointly, enter the name of the lead organization only. There must be a single applicant for each application.

“Organizational Unit”—Enter the name of the primary unit within the applicant's organization that will actually carry out the project activity. Do not use the name of an individual as the applicant. If this is the same as the applicant organization, leave the organizational unit blank.

“Address”—Enter the complete address that the organization actually uses to receive mail, since this is the address to which all correspondence will be sent. Do not include both street address and P.O. Box number unless both must be used in mailing.

“Name and telephone number of the person to be contacted on matters involving this application (give area code)”—Enter the full name and telephone number of a person who can respond to questions about the application. This person should be accessible at the address given here and will receive all correspondence regarding the application.

Item 6. “Employer Identification Number (EIN)”—Enter the employer identification number of the applicant organization, as assigned by the Internal Revenue Service.

Item 7. “Type of Applicant”— Self-explanatory (i.e., state controlled institution of higher education; private institution of higher education; community college; non-profit organization, other than institutions of higher education; or faith-based organizations).

Item 8. “Type of Application”—Preprinted on the form.

Item 9. “Name of Federal Agency”—Preprinted on the form.

Item 10. “Catalog of Federal Domestic Assistance Number and Title”—Enter the Catalog of Federal Domestic Assistance (CFDA) number assigned to the program under which assistance is requested and its title.

Item 11. “Descriptive Title of Applicant's Project”—Enter the project title. The title is generally short and is descriptive of the project, not the priority area title.

Item 12. “Areas Affected by Project”—Enter the governmental unit where significant and meaningful impact could be observed. List only the largest unit or units affected, such as State, county, or city. If an entire unit is affected, list it rather than subunits.

Item 13. “Proposed Project”—Enter the desired start date for the project and projected completion date.

Item 14. “Congressional District of Applicant/Project”—Enter the number of the Congressional district where the applicant's principal office is located and the number of the Congressional district(s) where the project will be located. If Statewide, a multi-State effort, or nationwide, enter “00.”

Item 15. Estimated Funding Levels. In completing 15a through 15f, the dollar amounts entered should reflect, for a 3-4 month project period, the total amount requested.

Item 15a. Enter the amount of Federal funds requested in accordance with the preceding paragraph. This amount should be no greater than the maximum amount specified in the priority area description.

Items 15b-e. Not Applicable.

Item 15f. Enter the estimated amount of program income, if any, expected to be generated from the proposed project. Do not add or subtract this amount from the total project amount entered under item 15g. Describe the nature, source and anticipated use of this program income in the Project Narrative Statement.

Item 15g. Enter the sum of items 15a-15e.

Item 16a. “Is Application Subject to Review By State Executive Order 12372 Process? Yes.”—Enter the date the applicant contacted the SPOC regarding this application. Select the appropriate SPOC from the listing provided online at http://www.whitehouse.gov/omb/grants/spoc.html. The review of the application is at the discretion of the SPOC. The SPOC will verify the date noted on the application.

Item 16b. “Is Application Subject to Review By State Executive Order 12372 Process? No.”—Check the appropriate box if the application is not covered by E.O. 12372 or if the program has not been selected by the State for review.

Item 17. “Is the Applicant Delinquent on any Federal Debt?”— Check the appropriate box. This question applies to the applicant organization, not the person who signs as the authorized representative. Categories of debt include audit disallowances, loans and taxes.

Item 18. “To the best of my knowledge and belief, all data in this application/pre-application are true and correct. The document has been duly authorized by the governing body of the applicant and the applicant will comply with the attached assurances if the assistance is awarded.”—To be signed by the authorized representative of the applicant. A copy of the governing body's authorization for signature of this application by this individual as the official representative must be on file in the applicant's office, and may be requested from the applicant.

Item 18a-c. “Typed Name of Authorized Representative, Title, Telephone Number”—Enter the name, title and telephone number of the authorized representative of the applicant organization.

Item 18d. “Signature of Authorized Representative” —Signature of the authorized representative named in Item 18a. At least one copy of the application must have an original signature. Use colored ink (not black) so that the original signature is easily identified.

Item 18e. “Date Signed”—Enter the date the application was signed by the authorized representative.

SF 424A—Budget Information—Non-Construction Programs

This is a form used by many Federal agencies. For this application, Sections A, B, and F are to be completed. Sections C, D and E do not need to be completed.

Sections A and B should include the Federal as well as the non-Federal funding for the proposed project covering the total project period of 4 months or less.

Section A—Budget Summary: This section includes a summary of the budget. On line 5, enter total Federal costs in column (e) and total non-Federal costs (none for these projects), including third party in-kind contributions, but not program income, in column (f). Enter the total of (e) and (f) in column (g).

Section B—Budget Categories: This budget, which includes the Federal as well as non-Federal funding for the proposed project (none for these projects), covers the total project period of 4 months or less. It should relate to item 15g, total funding, on the SF 424. Under column (5), enter the total requirements for funds (Federal and non-Federal [none]) by object class category.

A separate budget justification should be included to fully explain and justify major items, as indicated below. The types of information to be included in the justification are indicated under each category. The budget justification should immediately follow the second page of the SF 424A.

Personnel—Line 6a. Enter the total costs of salaries and wages of applicant/grantee staff for the project period. Do not include the costs of consultants; this should be included on line 6h, “Other.”

Justification: Identify the principal investigator or project director, if known. Specify by title or name the percentage of time allocated to the project, the individual's project period salary, and the cost to the project of the organization's staff who will be working on the project.

Fringe Benefits—Line 6b. Enter the total costs of fringe benefits, unless treated as part of an approved indirect cost rate.

Justification: Provide a break-down of amounts and percentages that comprise fringe benefit costs, such as health insurance, FICA, retirement insurance, etc.

Travel—6c. Enter total costs of out-of-town travel (travel requiring per diem) for staff of the project. Do not enter costs for consultant's travel or local transportation, which should be included on Line 6h, “Other.”

Justification: Include the name(s) of traveler(s), total number of trips, destinations, length of stay, transportation costs and subsistence allowances.

Equipment—Line 6d. Enter the total costs of all equipment to be acquired by the project.

Justification: Equipment to be purchased with Federal funds must be justified. The equipment must be required to conduct the project, and the applicant organization or its sub grantees must not have the equipment or a reasonable facsimile available to the project. The justification also must contain plans for future use or disposal of the equipment after the project ends.

Supplies—Line 6e. Enter the total costs of all tangible expendable personal property (supplies) other than those included on Line 6d.

Justification: Specify general categories of supplies and their costs.

Contractual—Line 6f. Enter the total costs of all contracts, including (1) Procurement contracts (except those which belong on other lines such as equipment, supplies, etc.), and (2) contracts with secondary recipient organizations, including delegate agencies. Also include any contracts with organizations for the provision of technical assistance. Do not include payments to individuals on this line. If the name of the contractor, scope of work, and estimated total costs are not available or have not been negotiated, include on Line 6h, “Other.”

Justification: Attach a list of contractors, indicating the names of the organizations, the purposes of the contracts, and the estimated dollar amounts of the awards as part of the budget justification. Whenever the applicant/grantee intends to delegate part or the entire program to another agency, the applicant/grantee must complete this section (Section B, Budget Categories) for each delegate agency by agency title, along with the supporting information. The total cost of all such agencies will be part of the amount shown on Line 6f. Provide backup documentation identifying the name of contractor, purpose of contract, and major cost elements.

Construction—Line 6g. Not applicable. New construction is not allowable.

Other—Line 6h. Enter the total of all other costs. Where applicable, such costs may include, but are not limited to: Insurance; medical and dental costs; non-contractual fees and travel paid directly to individual consultants; local transportation (all travel which does not require per diem is considered local travel); space and equipment rentals; printing and publication; computer use; training costs, including tuition and stipends; training service costs, including wage payments to individuals and supportive service payments; and staff development costs. Note that costs identified as “miscellaneous” and “honoraria” are not allowable.

Justification: Specify the costs included.

Total Direct Charges—Line 6i. Enter the total of Lines 6a through 6h.

Indirect Charges—6j. Enter the total amount of indirect charges (costs). If no indirect costs are requested, enter “none.” Generally, this line should be used when the applicant (except local governments) has a current indirect cost rate agreement approved by the Department of Health and Human Services or another Federal agency.

Justification: Enclose a copy of the indirect cost rate agreement.

Applicants subject to the limitation on the Federal reimbursement of indirect costs for training grants should specify this.

Total—Line 6k. Enter the total amounts of lines 6i and 6j.

Program Income—Line 7. Enter the estimated amount of income, if any, expected to be generated from this project. Do not add or subtract this amount from the total project amount.

Justification: Describe the nature, source, and anticipated use of program income in the Program Narrative Statement.

Section C—Non-Federal Resources: Not applicable.

Section D—Forecasted Cash Needs: Not applicable.

Section E—Budget Estimate of Federal Funds Needed for Balance of the Project: Not applicable. (This section should only be completed if the total project period exceeds 17 months.)

Section F—Other Budget Information.

Direct Charges—Line 21. See Form Instructions.

Indirect Charges—Line 22. Enter the type of indirect rate (provisional, predetermined, final or fixed) that will be in effect during the funding period, the estimated amount of the base to which the rate is applied, and the total indirect expense.

VI. Application Review Information

In considering how applicants will carry out the responsibilities addressed under this announcement, competing applications for financial assistance will be reviewed and evaluated against the following criteria:

1. Criteria (Total Possible Points: 105)

Criterion 1: Approach (Maximum 40 Points)

Applicants will be evaluated based on the extent to which they present a plan that (1) clearly reflects an understanding of the characteristics of the targeted population (college students) and methods for successfully motivating such students to participate as poll workers or other election administration assistants on Election Day; (2) provides appropriate services that directly address the goals of this program; (3) provides services that are appropriate and feasible; and (4) can be reliably evaluated.

• Applications will be evaluated based on the extent to which they outline a plan of action pertaining to the scope and detail on how the proposed work will be accomplished for each project, and include a definition of the goals and specific measurable objectives for the project (15 points);

• Applications will be evaluated based on the extent to which they describe any unusual features of the project, such as design or technological innovation, reductions in cost or time, or extraordinary social and community involvement (10 points);

• Applications will be evaluated based on the extent to which they describe the products to be developed during the implementation of the proposed project, such as brochures and promotional materials, data collection instruments, internet applications, reports, evaluation results, and a dissemination plan for conveying the information (5 points);

• Applications will be evaluated based on the extent to which they cite factors which might accelerate or decelerate the work and provide reasons for taking this approach as opposed to others (5 points);

• Applications will be evaluated based on the extent to which they include information on meeting the poll worker eligibility requirements for the jurisdiction(s) covered by the student population described in the application (2.5 points);

• Applications will be evaluated based on the extent to which they show current involvement and/or support from the local election administrator(s) and other key stakeholders of the jurisdiction(s) covered by the student population described in the application or ways in which such involvement and/or support will be developed during the proposed project period (2.5 points).

Criterion 2: Results or Benefits Expected (Maximum 30 Points)

Applications will be evaluated based on the extent to which they discuss the criteria to be used to evaluate the results, explain the methodology that will be used to determine if the needs identified and discussed are being met, and the results and benefits identified are being achieved.

• Applications will be evaluated based on the extent to which they identify the kinds of data to be collected and maintained and discuss the criteria to be used to evaluate the results and success of the project. For example, the applicant may provide a description of how the proposed project will be evaluated to determine the extent to which it has achieved its stated goals and objectives; the applicant may also provide a description of methods of evaluation that include the use of performance measures that are clearly related to the intended outcome of the project; (15 points).

• Applications will be evaluated based on the extent to which they provide for each project, when possible, a quantitative description of the accomplishments to be achieved and, when quantification is not possible, a list of activities, in chronological order, to show the schedule of accomplishments and their target date; (10 points).

• Applications will be evaluated based on the extent to which they provide information regarding how the project will build on current research, evaluation and/or best practices to contribute to increased knowledge and understanding of the problems, issues, or effective strategies and practices as they relate to college students participating as poll workers or other election administration assistants; (5 points).

Criterion 3: Organizational Profile (Maximum 25 Points)

Applications will be evaluated based on the extent to which they identify how the applicant organization (or the unit within the organization that will have responsibility for the project) is structured, the types and quantity of services, and the management capabilities it possesses. Applications will be evaluated based on the extent to which the applicant demonstrates a capacity to implement the proposed project including (1) Experience with similar projects; (2) experience with the target population; (3) qualifications and experience of the project leadership; (4) experience and commitment of any proposed consultants and subcontractors; and (5) appropriateness of the organizational structure, including its management information system, to carry out the project.

• Application will be evaluated based on the extent to which they demonstrate experience with similar projects and the target population (10 points);

• Application will be evaluated based on the extent to which they identify the background of the project director and key project staff (such as the inclusion of name, address, and training, educational background and other qualifying experience) and the extent to which they demonstrate that the experience of the organization is such that the applicant may effectively and efficiently administer this project and produce a usable final product. For example, this can include providing brief resumes of key project staff (10 points);

• Applications will be evaluated based on the extent to which they provide a brief background description of how the applicant organization is organized (such as an organizational chart that illustrates the relationship of the project to the current organization) the types and quantity of services it provides, and the research and management capabilities it possesses (5 points).

Criterion 4: Budget and Budget Justification (Maximum 10 Points)

Applications will be evaluated based on the extent to which the applicant presents a budget with reasonable project costs, appropriately allocated across component areas, and sufficient to accomplish the objectives, such as the inclusion of a justification for and documentation of the dollar amount requested.

(1) Applications will be evaluated based upon the extent to which they include a narrative budget justification that describes how the categorical costs are derived and a discussion of the reasonableness and appropriateness of the proposed costs. Line item allocations and justifications are required for Federal funds.

All necessary salary information must appear on the signed original application for the EAC. Applicants, however, have the option of omitting the Social Security Numbers and specific salary rates of the proposed project personnel from the two copies submitted with the original applications to EAC. For purposes of the outside review process, applicants may elect to summarize salary information on the copies of their application.

• Applications will be evaluated based on the extent to which they discuss and justify the costs of the proposed project as being reasonable and programmatically justified in view of the activities to be conducted and the anticipated results and benefits (5 points) and;

• Applications will be evaluated based on the extent to which they describe the fiscal control and accounting procedures that will be used to ensure prudent use, proper disbursement, and accurate accounting of funds received under this program announcement (5 points).

2. Review and Selection Process

Each application submitted under this program announcement will undergo a pre-review to determine that (1) the application was received by the closing date and submitted in accordance with the instructions in this announcement and (2) the applicant is eligible for funding. Applications which pass the initial EAC screening will be evaluated and rated by an independent review panel on the basis of the specific evaluation criteria. The results of these reviews will assist the Commissioners of the EAC in considering competing applications. The scores determined by the Independent Review Panel will weigh heavily in funding decisions made by the EAC, but will not be the only factors considered. The evaluation criteria were designed to assess the quality of a proposed project, and to determine the likelihood of its success. The evaluation criteria are closely related and are considered as a whole in judging the overall quality of an application. Points are awarded only to applications which are responsive to the evaluation criteria within the context of this program announcement.

VII. Award Administration Information

1. Award Notices

The successful applicant will be notified through the issuance of a Financial Assistance Award. The Financial Assistance Award will be signed by the Help America Vote College Program Director and transmitted via postal mail.

Organizations whose applications will not be funded will be notified in writing by the U.S. Election Assistance Commission.

2. Administrative and National Policy Requirements

The EAC has not promulgated any such requirements at this time. It is expected that general administrative and national policy requirements will be followed, and the EAC will seek guidance on these requirements from other Federal agencies, such as the U.S. Department of Health and Human Services.

3. Reporting

Programmatic Reports: Monthly.

Financial Reports: At end of project period (4-month maximum).

Special Reporting Requirements: None.

All grantees are required to submit monthly program reports to the EAC; grantees are also required to submit expenditure reports using the required financial standard form (SF-269) which is located on the Internet at: http://forms.psc.gov/forms/sf/SF-269.pdf. A suggested format for the program report will be sent to all grantees after the awards are made.

VIII. Agency Contacts

Program Office Contact: Karen Lynn-Dyson, Program Director, Help America Vote College Program, U.S. Election Assistance Commission, 1225 New York Avenue, NW., Suite 1100, Washington, DC 20005, Phone: (202) 566-3100; Fax (202) 566-1389; e-mail: klynndyson@eac.gov.

IX. Other Information

Additional information about the U.S. Election Assistance Commission and its purpose can be found on the following Internet address: http://www.eac.gov.

Thank you for your interest in improving the voting process in America.

Dated: August 24, 2004.
Ray Martinez, III,
Commissioner, Election Assistance Commission.

[FR Doc. 04-19632 Filed 8-26-04; 8:45 am]

BILLING CODE 6820-MP-P